DEPARTMENT OF COMMERCE

Economic Development Administration

Notice of Petitions by Firms for Determination of Eligibility To Apply for Trade Adjustment Assistance

AGENCY: Economic Development Administration, Department of Commerce.

ACTION: Notice and opportunity for public comment.

Pursuant to Section 251 of the Trade Act of 1974 (19 U.S.C. 2341 et seq.), the Economic Development Administration (EDA) has received petitions for certification of eligibility to apply for Trade Adjustment Assistance from the firms listed below. EDA has initiated separate investigations to determine whether increased imports into the United States of articles like or directly competitive with those produced by each firm contributed importantly to the total or partial separation of the firm's workers, or threat thereof, and to a decrease in sales or production of each petitioning firm.

List of Petitions Received by EDA for Certification of Eligibility To Apply for Trade Adjustment Assistance for the Period April 20, 2006 Through May 23, 2006
Firm | Address | Date petition accepted | Product
Merritt Apples, Inc | 8914 Bayview-Edison Road, Bow, WA 98232 | 4/20/2006 | Apple grower.
Covarrubias Farms | 201 W. Sharon Street, Dell City, TX 79837 | 5/9/2006 | Anaheim peppers, onions and corn.
Forte Product Solutions | 4100 Riverside Street, Kansas City, MO 64150 | 5/9/2006 | Molded plastic products.
Arkansas Face Veneer Co., Inc | 706 Center Street, Benton, AR 72015 | 5/9/2006 | Softwood veneer faces and edge banding.
Trend Plastics, Inc | 15665 S. Keeler Street, Olathe, KS 66062 | 5/9/2006 | Handles, enclosures, lenses, connectors and medical parts.
Absolute Machine and Tooling | 16001 Ronald Reagan Boulevard, Leander, TX 78641 | 5/9/2006 | Machines parts for semiconductors and oil field equipment.
Partch Farms, Inc | 741 Price Road, Outlook, WA 98938 | 5/23/2006 | Asparagus, corn, hay, peas and wheat.
Cogswell Limited Partnership dba Hillcrest Orchard | 3285 Hillcrest Road, Medford, OR 97504 | 5/23/2006 | Pears, grapes and other fruits and vegetables.
The Shutter Mill, Inc. dba Kirtz Shutters | 8517 S. Perkins Road, Stillwater, OK 74076 | 5/23/2006 | Wood shutters.

Any party having a substantial interest in these proceedings may request a public hearing on the matter. A written request for a hearing must be submitted to the Office of Chief Counsel, Room 7005, Economic Development Administration, U.S. Department of Commerce, Washington, DC 20230, no later than ten (10) calendar days following publication of this notice. Please follow the procedures set forth in Section 315.9 of EDA's interim final rule (70 FR 47002) for procedures for requesting a public hearing. The Catalog of Federal Domestic Assistance official program number and title of the program under which these petitions are submitted is 11.313, Trade Adjustment Assistance.

Dated: May 26, 2006.
Barry Bird,
Chief Counsel.

[FR Doc. 06-5048 Filed 6-1-06; 8:45 am]

BILLING CODE 3510-24-M